DEPARTMENT OF TRANSPORTATION

Federal Highway Administration

Notice of Final Federal Agency Actions on the I-495 & I-270 Managed Lanes Study, Montgomery and Prince George's Counties, Maryland and Fairfax County, Virginia

AGENCY: Federal Highway Administration (FHWA), Department of Transportation (DOT).

ACTION: Notice of limitation on claims for judicial review of actions by FHWA and other Federal agencies.

SUMMARY: This notice announces actions taken by FHWA and other Federal agencies that are final. The actions relate to the I-495 and I-270 Managed Lanes Study, in Montgomery and Prince George's Counties, Maryland and Fairfax County, Virginia.

DATES: By this notice, FHWA is advising the public of final agency actions subject to 23 U.S.C. 139(l)(1). A claim seeking judicial review of the Federal agency actions on the highway project will be barred unless the claim is filed on or before January 27, 2023. If the Federal law that authorizes judicial review of a claim provides a time period of less than 150 days for filing such claim, then that shorter time period still applies.

FOR FURTHER INFORMATION CONTACT: Gregory Murrill, Division Administrator, Maryland Division, Federal Highway Administration, George H. Fallon Building, 31 Hopkins Plaza—Suite 1520, Baltimore, Maryland, 21201, Telephone (410) 962-4440.

SUPPLEMENTARY INFORMATION: Notice is hereby given that FHWA and other Federal agencies have taken final agency actions by issuing approvals for the I-495 and I-270 Managed Lanes Study in Montgomery County and Prince George's County in the State of Maryland and Fairfax County in the State of Virginia. The project will replace the 60-year-old American Legion Bridge and deliver two high occupancy toll managed lanes on an approximately 14-mile stretch of I-495 and I-270. The purpose of this project is to develop a travel demand management solution(s) that addresses congestion, improves trip reliability on I-495 and I-270 within the study limits and enhances existing and planned multimodal mobility and connectivity. The needs that are addressed by this project include accommodating existing traffic and long-term traffic growth, enhancing trip reliability, providing additional roadway travel choices, accommodating homeland security, and improving the movement of goods and services.

The actions by the Federal agencies, and the laws under which such actions were taken, are described in the FHWA Final Environmental Impact Statement (FEIS) for the project, signed June 17, 2022, in the Record of Decision (ROD) for the project, issued on August 25, 2022, and in other project documents in the FHWA administrative record. The FEIS, ROD, and other documents in the FHWA administrative record files are available by contacting FHWA, using the contact information provided above. The FEIS and ROD can be viewed and downloaded from the project Op Lanes Maryland website at https://oplanesmd.com/environmental/.

This notice applies to FHWA agency decision as of the issuance date of this notice and all laws under which such actions were taken, including but not limited to:

1. National Environmental Policy Act [42 U.S.C. 4321- 4351].

2. Federal-Aid Highway Act [23 U.S.C. 109].

3. Clean Air Act [42 U.S.C. 7401-7671(q)].

4. Section 4(f) of the Department of Transportation Act of 1966 [49 U.S.C. 303].

5. Endangered Species Act [16 U.S.C. 1531-1544 and 1536].

6. Fish and Wildlife Coordination Act [16 U.S.C. 661-667(d)].

7. Migratory Bird Treaty Act [16 U.S.C. 703-712].

8. Bald and Golden Eagle Protection Act [16 U.S.C. 668-668c].

9. Section 106 of the National Historic Preservation Act of 1966, as amended [16 U.S.C. 470].

10. Farmland Protection Policy Act [7 U.S.C. 4201-4209].

11. Clean Water Act (Section 319, Section 401, Section 402, Section 404) [33 U.S.C. 1251-1377].

12. Safe Drinking Water Act [42 U.S.C. 300 (f) et seq.].

13. Uniform Relocation Assistance and Real Property Acquisition Policies Act of 1970 [42 U.S.C. 4601 et seq.].

14. Noise Control Act of 1972 [42 U.S.C. 4901 et seq.].

15. Resource Conservation and Recovery Act [42 U.S.C. 6901-6992(k)].

16. Comprehensive Environmental Response, Compensation, and Liability Act [42 U.S.C. 9601-9675].

17. Americans with Disabilities Act of 1990 [42 U.S.C. 12101].

18. Executive Order 11990 Protection of Wetlands.

19. Executive Order 11988 Floodplain Management.

20. Executive Order 12898 Federal Actions to Address Environmental Justice in Minority Populations and Low-Income Populations.

21. Executive Order 11593 Protection and Enhancement of Cultural Resources.

22. Executive Order 13007 Indian Sacred Sites.

23. Executive Order 13287 Preserve America.

24. Executive Order 13175 Consultation and Coordination with Indian Tribal Governments.

25. Executive Order 11514 Protection and Enhancement of Environmental Quality.

26. Executive Order 13112 Invasive Species.

27. Executive Order 13166 Improving Access to Services for Persons with Limited English Proficiency.

(Catalog of Federal Domestic Assistance Program Number 20.205, Highway Planning and Construction. The regulations implementing Executive Order 12372 regarding intergovernmental consultation on Federal programs and activities apply to this program.)

Authority: 23 U.S.C. 139(l)(1).

Issued on: August 25, 2022.
Gregory Murrill,
Division Administrator, Baltimore, Maryland.

[FR Doc. 2022-18733 Filed 8-29-22; 8:45 am]

BILLING CODE 4910-RY-P